ENVIRONMENTAL PROTECTION AGENCY

40 CFR Part 300

[FRL-6848-3]

National Oil and Hazardous Substances Pollution Contingency Plan; National Priorities List

AGENCY: Environmental Protection Agency (EPA).

ACTION: Direct final deletion of the Palmetto Recycling Site from the National Priorities List (NPL).

SUMMARY: EPA Region IV announces the deletion of the Palmetto Recycling Site (Site) from the National Priorities List (NPL) and requests public comment on this action. The NPL constitutes Appendix B of 40 CFR part 300 which is the National Oil and Hazardous Substances Pollution Contingency Plan (NCP), which EPA promulgated pursuant to section 105 of the Comprehensive Environmental Response, Compensation, and Liability Act of 1980, as amended (CERCLA). EPA and the South Carolina Department of Health and Environmental Control (SCDHEC) have determined that the Site poses no significant threat to public health or the environment and therefore, further response measures pursuant to CERCLA are not appropriate.

DATES: This “direct final” action will be effective October 13, 2000 unless EPA receives significant adverse or critical comments by September 13, 2000. If adverse comments are received, EPA will publish a timely withdrawal of the direct final rule in the Federal Register informing the public that the rule will not take effect.

ADDRESSES: Written comments may be mailed to Yvonne Jones, (4WD-NSMB) Remedial Project Manager, U.S. Environmental Protection Agency, 61 Forsyth Street, Atlanta, Georgia 30303, (404) 562-8793, Fax (404) 562-8778, email jones.yvonneO@epa.gov. Comprehensive information on this Site is available through the public docket which is available for viewing at the Site Information Repositories at the following locations: U.S. EPA Region IV, Administrative Records, 61 Forsyth Street, Atlanta, Georgia 30303, (404) 562-8862 and the Northeast Regional Library, 7490 Parklane Road, Columbia, South Carolina 29223.

FOR FURTHER INFORMATION CONTACT: Yvonne Jones, (4WD-NSMB) Remedial Project Manager, U.S. Environmental Protection Agency, 61 Forsyth Street, Atlanta, Georgia 30303, (404) 562-8793, Fax (404) 562-8778, email jones.yvonneO@epa.gov.

SUPPLEMENTARY INFORMATION:

Table of Contents

I. Introduction

II. NPL Deletion Criteria

III. Deletion Procedures

IV. Basis for Intended Site Deletion

V. Action

I. Introduction

The EPA Region IV announces its deletion of the Palmetto Recycling Site, Columbia, Richland County, South Carolina, from the NPL, Appendix B of the NCP, 40 CFR part 300. EPA identifies sites that appear to present a significant risk to public health, welfare, or the environment and maintains the NPL as the list of these sites. EPA and SCDHEC have determined that the remedial action for the Site has been successfully executed. EPA will accept comments on this notice thirty days after publication of this notice in the Federal Register.

Section II of this document explains the criteria for deleting sites from the NPL. Section III discusses the procedures that EPA is using for this action. Section IV discusses the history of the Palmetto Recycling Site and explains how the Site meets the deletion criteria. Section V states EPA's action to delete the Site from the NPL unless dissenting comments are received during the comment period.

II. NPL Deletion Criteria

Section 300.425(e) of the NCP provides that sites may be deleted from, or recategorized on the NPL where no further response is appropriate. In making a determination to delete a site from the NPL, EPA shall consider, in consultation with the state, whether any of the following criteria have been met:

(i) Responsible parties or other parties have implemented all appropriate response actions required; or

(ii) All appropriate response under CERCLA has been implemented, and no further action by responsible parties is appropriate; or

(iii) The remedial investigation has shown that the release poses no significant threat to public health or the environment and, therefore, taking of remedial measures is not appropriate.

Even if a site is deleted from the NPL, where hazardous substance, pollutants, or contaminants remain at the site above levels that allow for unlimited use and unrestricted exposure, EPA's policy is that a subsequent review of the site will be conducted at least every five years after the initiation of the remedial action at the site to ensure that the site remains protective of public health and the environment. In the case of this Site, no hazardous substances remain on-site above health-based levels that prevent unlimited use and unrestricted exposure. Therefore, a five-year review is not required. However, although contaminants are not impacting the groundwater at the Site, groundwater monitoring is required by the Record of Decision to confirm that the remedy remains effective at protecting human health and the environment. Therefore, EPA will conduct a five-year review for the Site to summarize the data obtained from groundwater monitoring. If new information becomes available that indicates a need for further action, EPA will initiate remedial actions. Whenever there is a significant release from a site deleted from the NPL, the site shall be restored to the NPL without the application of the Hazardous Ranking System.

III. Deletion Procedures

The following procedures were used for the intended deletion of this Site: (1) All appropriate response under CERCLA has been implemented and no further action by EPA is appropriate; (2) SCDHEC concurred with the proposed deletion decision; (3) A notice has been published in the local newspaper and has been distributed to appropriate federal, state, and local officials and other interested parties announcing the commencement of a 30-day dissenting public comment period on EPA's Direct Final Action to Delete; and, (4) All relevant documents have been made available for public review at the local Site information repositories. EPA is requesting only dissenting comments on the Direct Final Action to Delete.

For deletion of the Site, EPA's Regional Office will accept and evaluate public comments on EPA's Final Notice before making a final decision to delete. If necessary, the Agency will prepare a Responsiveness Summary, responding to each significant comment submitted during the public comment period. Deletion of the Site from the NPL does not itself create, alter, or revoke any individual's rights or obligations and does not preclude eligibility for future response actions. The NPL is designed primarily for informational purposes and to assist Agency management. As mentioned in section II of this document, § 300.425(e)(3) of the NCP states that the deletion of a site from the NPL does not preclude eligibility for future response actions.

IV. Basis for Intended Site Deletion

The following summary provides the Agency's rationale for the proposal to delete this Site from the NPL.

A. Site Background and History

The Palmetto Recycling Site is located off Koon Store Road about 8 miles north of Columbia, Richland County, South Carolina. The Site occupies approximately one and one half acres and is bounded on the north by an unnamed tributary of Dry Fork Creek and on the east by Babe Reeves Road. To the west and south of the site are residential areas interspersed with light commercial operations.

Palmetto Recycling, Inc. purchased the property in 1979 to operate a battery recycling company. It is unknown what activities occurred at the Site prior to 1979. From 1979 to 1983, the facility was involved in the reclamation of lead from batteries. Specific neutralization process details are unknown, but at some point, Palmetto Recycling started discharging wastewater to the local sewer system. After discharging wastewater for an unknown period of time, Palmetto Recycling attempted to obtain a discharge permit. In 1981, SCDHEC denied applications by Palmetto Recycling, Inc. to operate a hazardous waste facility and to transport hazardous wastes. After permit applications were denied, some waste liquids were sent off-site to an acid recycler and some were disposed of on-site.

In the early 1980's, a study conducted by SCDHEC identified elevated concentrations of lead and iron in the groundwater samples collected next to the sump. High levels of lead, barium, and chromium were found in the sediment from the unnamed stream that runs north of the Site. The investigation also revealed the presence of elevated concentrations of lead in on-site soils. SCDHEC noted the presence of a five-foot deep, unlined acid pit containing 1,800 gallons of acid waste at the Site, as well as 100 drums of caustic waste and an unstabilized pile of battery casings.

On February 11, 1983, Palmetto Recycling filed for bankruptcy and a trustee was appointed to provide oversight of cleanup activities. In 1984, Palmetto Recycling employees removing equipment from the Site destroyed a section of the roof covering the on-site collection sump that collected wastewater containing lead oxide and sulfuric acid from the wash process. As a result of this incident, sump water percolated through soils adjacent to the pit area. Three removal actions were taken at the Site to address immediate health and environmental risks. On April 25, 1984, 10,800 gallons of contaminated water were collected and taken to a qualifying facility. In April 1984, SCDHEC informed the bankruptcy trustee that additional measures would be necessary to bring the Site under control. Later in 1984, contractors removed and disposed off-site approximately 100 drums containing liquid caustic waste. On October 2, 1985, SCDHEC authorized another contractor to remove site soils contaminated with lead and chromium. A total of 365 tons of soils were removed from various areas on-site and from locations outside the fenced area and placed in off-site landfills during 1985 and 1986. On October 4, 1989, the Site was placed on the National Priorities List (NPL).

In 1992, EPA negotiated with parties it had identified as Potentially Responsible Parties (PRPs) for the Site to conduct the Remedial Investigation/Feasibility Study (RI/FS). An agreement was not reached between EPA and the parties. Therefore, EPA conducted RI Field activities at the Site from April 1993 through July 1994. The FS was completed in November 1994.

Based on the results of the RI/FS reports and the risk assessment, surface soil was the only medium of concern and lead was the only contaminant of concern. Lead levels in soil ranged from 6.3 parts per million (ppm) to 6,400 ppm. The cleanup level for lead contaminated soils of 400 ppm was established to minimize site risks and ensure future protection of groundwater. In March 1995, EPA issued a Record of Decision (ROD) for the Site which selected excavation and off-site disposal of all soil contaminated with lead above the concentration level of 400 ppm. In addition, the ROD required the collection of additional confirmation samples from adjacent residential yards and from Babe Reaves Road to confirm the absence or presence of soil contamination through off-site migration. Groundwater was no longer impacted. However, groundwater monitoring will continue on an annual basis to confirm that the remedy continues to be effective at protecting human health and the environment. The selected remedy eliminated the principal threat posed by conditions at the Site by reducing the potential for human exposure to high concentrations of lead (i.e., greater than the clean-up level of 400 ppm).

In May 1997, a Consent Decree was signed between the United States and one PRP. A Remedial Design for the specific remedial actions was approved by EPA and the South Carolina Department of Health and Environmental Control in April 1998. From November 1998 through January 1999, several components of the Remedial Action were implemented that included verification sampling and analysis, monitoring well abandonment, a structural inspection, an asbestos survey analysis, approval of backfill material and permitting activities. The verification sample test results, together with previous RI and Remedial Design (on-site and residential) test results, were used to further refine excavation boundaries and confirm that residential properties were not contaminated. Sample results showed that lead levels in the adjacent residential yard were below 400 ppm. Revised (reduced) excavation boundaries based on this data were approved by EPA and SCDHEC on December 24, 1998. Between January 11, 1999 and February 3, 1999, a total of 363 drums of Investigation Derived Waste (IDW) type waste were appropriately segregated, characterized and removed off-site to a RCRA qualifying facility. In addition, approximately 6,500 gallons of liquid IDW were removed off-site to a qualifying publicly owned treatment works.

Soil excavation activities began on January 12, 1999. Approximately 947 cubic yards of soil were excavated down to one-foot and removed from the Site. After excavation was completed in each area, a post-excavation survey was performed to verify removal of the top one-foot of soil. Excavated soil and sediment were transported to and treated/disposed at a qualifying Resource Conservation and Recovery Act (RCRA) facility. Backfilling the Site with clean backfilled material provided further assurance that the Site no longer poses any threats to human health or the environment. Construction activities were concluded on February 3, 1999.

Although contaminants are not impacting the groundwater at the Site, groundwater monitoring is required by the Record of Decision to confirm that the remedy remains effective at protecting human health and the environment.

The cleanup levels established in the Record of Decision for soil have been met. In addition, current groundwater monitoring indicates that the groundwater concentrations for lead are below the health-based level of 15 parts per billion (ppb). The concentration levels detected during groundwater monitoring range from non-detect to 3.2 ppb. Thus, no hazardous substances remain on-site above health-based levels that prevent unlimited use and unrestricted exposure. Therefore, a five-year review is not required. However, as required by the ROD and at the request of SCDHEC, EPA will conduct a five-year review to assess the continued effectiveness of the remedial action and to summarize the data obtained from groundwater monitoring.

V. Action

The remedy selected for this Site has been implemented in accordance with the Record of Decision. Therefore, no further response action is necessary. The remedy has resulted in the significant reduction of the long-term potential for release of contaminants, therefore, human health and potential environmental impacts have been minimized. EPA and SCDHEC find that the remedy implemented continues to provide adequate protection of human health and the environment.

SCDHEC concurs with EPA that criteria for deletion of the Site have been met. Therefore, EPA is deleting the Site from the NPL.

This action will be effective October 13, 2000. However, if EPA receives dissenting comments by September 13, 2000, EPA will publish a document that withdraws this action.

List of Subjects in 40 CFR Part 300

Environmental protection, Air pollution control, Chemicals, Hazardous substances, Hazardous Waste, Intergovernmental relations, Penalties, Reporting and recordkeeping requirements, Superfund, Water pollution control, water supply.

Dated: July 31, 2000.
Michael V. Peyton,
Acting Regional Administrator, US EPA Region IV.

Part 300, title 40 of chapter I of the Code of Federal Regulations is amended as follows:

PART 300—[AMENDED]

1. The authority citation for Part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp.; p. 193.

Appendix B—[Amended]

2. Table 1 of appendix B to part 300 is amended by removing the entry for “Palmetto Recycling Inc., Columbia, SC.”

[FR Doc. 00-20318 Filed 8-11-00; 8:45 am]

BILLING CODE 6560-50-P